FEDERAL FINANCIAL INSTITUTIONS EXAMINATION COUNCIL

[Docket No. AS13-21]

Appraisal Subcommittee of the Federal Financial Institutions Examination Council; Notice of Meeting

Description: In accordance with Section 1104 (b) of Title XI of the Financial Institutions Reform, Recovery, and Enforcement Act of 1989, as amended, notice is hereby given that the Appraisal Subcommittee (ASC) will meet in closed session:

Location: OCC—400 7th Street, SW., Washington, DC 20024.

Date: September 11, 2013.

Time: Immediately following the ASC open session.

Status: Closed.

Matters to be Considered: August 14, 2013 minutes—Closed Session

Dated: August 29, 2013.
James R. Park,
Executive Director.

[FR Doc. 2013-21457 Filed 9-3-13; 8:45 am]

BILLING CODE 6700-01-P